DEPARTMENT OF DEFENSE

Office of the Secretary

[Docket ID DoD-2012-OS-0060]

Submission for OMB Review; Comment Request

ACTION: Notice.

The Department of Defense has submitted to OMB for clearance, the following proposal for collection of information under the provisions of the Paperwork Reduction Act (44 U.S.C. Chapter 35).

DATES: Consideration will be given to all comments received by September 4, 2013.

Title; Associated Form; and OMB Number: How Differences in Pedagogical Methods Impact ChalleNGe Program Outcomes; OMB Control Number: 0704-TBD.

Type of Request: New.

Number of Respondents: 150.

Responses per Respondent: 1.

Annual Responses: 150.

Average Burden per Response: 20 minutes.

Annual Burden Hours: 50 hours.

Needs and Uses: The information collection requirement is necessary to obtain data on the pedagogical methods of National Guard Youth ChalleNGe program teachers. The data will be used by DoD to evaluate how differences in classroom teaching methods impact program outcomes. The data will also be used to identify those policies and techniques that are most effective so they may be shared program-wide.

Affected Public: Individuals or households.

Frequency: One time.

Respondent's Obligation: Voluntary.

OMB Desk Officer: Ms. Jasmeet Seehra.

Written comments and recommendations on the proposed information collection should be sent to Jasmeet Seehra at the Office of Management and Budget, Desk Officer for DoD, Room 10236, New Executive Office Building, Washington, DC 20503.

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings, WHS/ESD, 4800 Mark Center Drive, 2nd floor, East Tower, Suite 02G09, Alexandria, VA 22350-3100.

Dated: July 30, 2013.
Aaron Siegel,
Alternate OSD Federal Register Liaison Officer, Department of Defense.

[FR Doc. 2013-18732 Filed 8-2-13; 8:45 am]

BILLING CODE 5001-06-P